Title 3—

The President

Presidential Determination No. 2003-33 of August 27, 2003

Determination on Export-Import Bank Support for U.S.

Exports to Iraq

Memorandum for the Secretary of State

Consistent with section 2(b)(4) of the Export-Import Bank Act of 1945, as amended, I hereby determine and certify to the Congress that it is in the national interest for the Export-Import Bank to guarantee, insure, or extend credit, or participate in the extension of credit in support of United States exports to Iraq.

You are directed to report this determination to the Congress and to provide copies of the justification explaining the basis for this determination. You are further directed to publish this determination in the Federal Register.

B

THE WHITE HOUSE,

Washington, August 27, 2003.

[FR Doc. 03-22775

Filed 9-4-03; 8:45 am]

Billing code 4710-10-P